DEPARTMENT OF COMMERCE

National Institute of Standards and Technology

Government Owned Invention Available for Licensing

AGENCY: National Institute of Standards and Technology, Commerce.

ACTION: Notice of Government Owned Invention Available for Licensing.

SUMMARY: The invention listed below is owned by the U.S. Government, as represented by the Department of Commerce. The Department of Commerce's interest in the invention is available for licensing in accordance with 35 U.S.C. 207 and 37 CFR part 404 to achieve expeditious commercialization of results of federally funded research and development.

FOR FURTHER INFORMATION CONTACT: Technical and licensing information on the invention may be obtained by writing to: National Institute of Standards and Technology, Technology Partnerships Division, Attn: Mary Clague, Building 820, Room 213, Gaithersburg, MD 20899. Information is also available via telephone: 301-975-4188, e-mail: mclague@nist.gov, or fax: 301-869-2751. Any request for information should include the NIST Docket number and title for the relevant invention as indicated below.

SUPPLEMENTARY INFORMATION: NIST may enter into a Cooperative Research and Development Agreement (“CRADA”) with the licensee to perform further research on the invention for purposes of commercialization. The invention available for licensing is:

[Docket No.: 01-024US]

Title: Method For Combinatorially Measuring Adhesion Strength.

Abstract: This invention is available for nonexclusive licensing only. A new method for measuring the adhesive strength of polymer materials arranged in a combinatorial library is described. In this invention, a combinatorial library consisting of two parts: A periodic distribution of curved surfaces, such as a lens array, and a complementary substrate. These two library components are brought into contact under controlled displacement conditions. Upon contact, a combinatorial array of polymer interfaces is created. After reaching maximum contact, the two library components are separated at a controlled displacement rate. During both the contact and separation processes, the contact area created by each contact point and the corresponding displacement is recorded. This information of contact area and displacement is used to quantitatively determine the adhesion energy of the polymer interface. Additionally, a qualitative mapping of the combinatorial array is simply given by imaging the contact areas over the entire array. With this information, the conditions for optimal adhesion at the polymer interface can be determined as a function of the parameters varied in the combinatorial library. In addition to empirically determining optimal adhesion conditions for a specific application, this technique will have significant impact in guiding the molecular engineering of optimized adhesive materials for industries such as, but not limited to, electronic packaging, biomaterials, and coatings.

Dated: November 14, 2002.
Karen H. Brown,
Deputy Director.

[FR Doc. 02-29515 Filed 11-20-02; 8:45 am]

BILLING CODE 3510-13-P